NUCLEAR REGULATORY COMMISSION

Solicitation of Public Comments on the Implementation of the Reactor Oversight Process

AGENCY: Nuclear Regulatory Commission.

ACTION: Request for public comment.

SUMMARY: Nearly 5 years have elapsed since the U.S. Nuclear Regulatory Commission (NRC) implemented its revised Reactor Oversight Process (ROP). The NRC is currently soliciting comments from members of the public, licensees, and interest groups related to the implementation of the ROP. This solicitation will provide insights into the self-assessment process and a summary of the feedback will be included in the annual ROP self-assessment report to the Commission.

DATES: The comment period expires on December 16, 2004. The NRC will consider comments received after this date if it is practical to do so, but is only able to ensure consideration of comments received on or before this date.

ADDRESSES: Completed questionnaires and/or comments may be e-mailed to nrcrep@nrc.gov or sent to Michael T. Lesar, Chief, Rules and Directives Branch, Office of Administration (Mail Stop T-6D59), U.S. Nuclear Regulatory Commission, Washington, DC 20555-0001. Comments may also be hand-delivered to Mr. Lesar at 11554 Rockville Pike, Rockville, Maryland, between 7:30 a.m. and 4:15 p.m. on Federal workdays.

Documents created or received at the NRC after November 1, 1999, are available electronically through the NRC's Public Electronic Reading Room on the Internet at http://www.nrc.gov/reading-rm.html. From this site, the public can access the NRC's Agencywide Documents Access and Management System (ADAMS), which provides text and image files of the NRC's public documents. For more information, contact the NRC's Public Document Room (PDR) reference staff at 301-415-4737 or 800-397-4209, or by e-mail at pdr@nrc.gov.

FOR FURTHER INFORMATION CONTACT: Ms. Serita Sanders, Office of Nuclear Reactor Regulation (Mail Stop: OWFN 7A15), U.S. Nuclear Regulatory Commission, Washington DC 20555-0001. Ms. Sanders can also be reached by telephone at 301-415-2956 or by e-mail at SXS5@nrc.gov.

SUPPLEMENTARY INFORMATION:

Program Overview

The mission of the NRC is to regulate the civilian uses of nuclear materials in the United States to protect the health and safety of the public and the environment, and to promote the common defense and security by preventing the proliferation of nuclear material. This mission is accomplished through the following activities:

• License nuclear facilities and the possession, use, and disposal of nuclear materials.

• Develop and implement requirements governing licensed activities.

• Inspect and enforce licensee activities to ensure compliance with these requirements and the law.

While the NRC's responsibility is to monitor and regulate licensees' performance, the primary responsibility for safe operation and handling of nuclear materials rests with each licensee.

As the nuclear industry in the United States has matured for more than 27 years, the NRC and its licensees have learned much about how to safely operate nuclear facilities and handle nuclear materials. In April 2000, the NRC began to implement more effective and efficient inspection, assessment, and enforcement approaches, which apply insights from these years of regulatory oversight and nuclear facility operation. Key elements of the Reactor Oversight Process (ROP) include NRC inspection procedures, plant performance indicators, a significance determination process, and an assessment program that incorporates various risk-informed thresholds to help determine the level of NRC oversight and enforcement. Since ROP development began in 1998, the NRC has frequently communicated with the public by various initiatives: conducting public meetings in the vicinity of each licensed commercial nuclear power plant, issuing FRNs soliciting feedback on the ROP, publishing press releases about the new process, conducting multiple public workshops, placing pertinent background information in the NRC's Public Document Room, and establishing an NRC Web site containing easily accessible information about the ROP and licensee performance.

NRC Public Stakeholder Comments

The NRC continues to be interested in receiving feedback from members of the public, various public stakeholders, and industry groups on their insights regarding the CY 2004 implementation of the ROP. In particular, the NRC is seeking responses to the questions listed below, which will provide important information that the NRC can use in ongoing program improvement. A summary of the feedback obtained will be provided to the Commission and included in the annual ROP self-assessment report.

This solicitation of public comments has been issued each year since ROP implementation in 2000. In previous years, the question had been free-form in nature requesting written responses. Although written responses are still encouraged, we have added specific choices to best describe your experience to enable us to more objectively determine your level of satisfaction.

In addition, we are asking for feedback under distinct time frames to enable us to trend your level of satisfaction: During the initial year of ROP implementation (2000), and current ROP implementation. In future years, we will ask for feedback only for current ROP implementation.

Questions

As previously discussed, we are asking for feedback under distinct time frames to enable us to trend your level of satisfaction. The questionnaire has been modified to benchmark the results. In responding to these questions, please consider your experiences using the NRC oversight process during initial implementation (first year of ROP) and current ROP implementation.

Shade in the circle that most applies to your experiences as follows: (1) Very much (2) somewhat (3) neutral (4) somewhat less than needed (5) far less than needed

If there are experiences that are rated as unsatisfied, or if you have specific thoughts or concerns, please elaborate in the “Comments” section that follows the question and offer your opinion for possible improvements. If there are experiences or opinions that you would like to express that cannot be directly captured by the questions, document that in question number 20.

Questions Related to Specific ROP Program Areas

(As appropriate, please provide specific examples and suggestions for improvement.)

(1) Does the Performance Indicator Program promote plant safety?

| 1 | 2 | 3 | 4 | 5
Initial ROP Implementation | ○ | ○ | ○ | ○ | ○
Current ROP | ○ | ○ | ○ | ○ | ○

Comments:

(2) Does appropriate overlap exist between the Performance Indicator Program and the Inspection Program?

| 1 | 2 | 3 | 4 | 5
Initial ROP Implementation | ○ | ○ | ○ | ○ | ○
Current ROP | ○ | ○ | ○ | ○ | ○

Comments:

(3) Is the reporting of PI data efficient?

| 1 | 2 | 3 | 4 | 5
Initial ROP Implementation | ○ | ○ | ○ | ○ | ○
Current ROP | ○ | ○ | ○ | ○ | ○

Comments:

(4) Does NEI 99-02, “Regulatory Assessment Performance Indicator Guideline” provide clear guidance regarding Performance Indicators?

| 1 | 2 | 3 | 4 | 5
Initial ROP Implementation | ○ | ○ | ○ | ○ | ○
Current ROP | ○ | ○ | ○ | ○ | ○

Comments:

(5) Is the information in the inspection reports useful to you?

| 1 | 2 | 3 | 4 | 5
Initial ROP Implementation | ○ | ○ | ○ | ○ | ○
Current ROP | ○ | ○ | ○ | ○ | ○

Comments:

(6) Does the Significance Determination Process yield equivalent results for issues of similar significance in all ROP cornerstones?

| 1 | 2 | 3 | 4 | 5
Initial ROP Implementation | ○ | ○ | ○ | ○ | ○
Current ROP | ○ | ○ | ○ | ○ | ○

Comments:

(7) Does the NRC take appropriate actions to address performance issues for those licensees outside of the Licensee Response Column of the Action Matrix?

| 1 | 2 | 3 | 4 | 5
Initial ROP Implementation | ○ | ○ | ○ | ○ | ○
Current ROP | ○ | ○ | ○ | ○ | ○

Comments:

(8) Is the information contained in assessment reports relevant, useful, and written in plain English?

| 1 | 2 | 3 | 4 | 5
Initial ROP Implementation | ○ | ○ | ○ | ○ | ○
Current ROP | ○ | ○ | ○ | ○ | ○

Comments:

Questions related to the efficacy of the overall Reactor Oversight Process (ROP) (As appropriate, please provide specific examples and suggestions for improvement.)

(9) Are the ROP oversight activities predictable (i.e., controlled by the process) and reasonably objective (i.e., based on supported facts, rather than relying on subjective judgement)?

| 1 | 2 | 3 | 4 | 5
Initial ROP Implementation | ○ | ○ | ○ | ○ | ○
Current ROP | ○ | ○ | ○ | ○ | ○

Comments:

(10) Is the ROP risk-informed, in that the NRC's actions are graduated on the basis of increased significance?

| 1 | 2 | 3 | 4 | 5
Initial ROP Implementation | ○ | ○ | ○ | ○ | ○
Current ROP | ○ | ○ | ○ | ○ | ○

Comments:

(11) Is the ROP understandable and are the processes, procedures and products clear and written in plain English?

| 1 | 2 | 3 | 4 | 5
Initial ROP Implementation | ○ | ○ | ○ | ○ | ○
Current ROP | ○ | ○ | ○ | ○ | ○

Comments:

(12) Does the ROP provide adequate regulatory assurance when combined with other NRC regulatory processes that plants are being operated and maintained safely?

| 1 | 2 | 3 | 4 | 5
Initial ROP Implementation | ○ | ○ | ○ | ○ | ○
Current ROP | ○ | ○ | ○ | ○ | ○

Comments:

(13) Does the ROP improve the efficiency, effectiveness, and realism of the regulatory process?

| 1 | 2 | 3 | 4 | 5
Initial ROP Implementation | ○ | ○ | ○ | ○ | ○
Current ROP | ○ | ○ | ○ | ○ | ○

Comments:

(14) Does the ROP ensure openness in the regulatory process?

| 1 | 2 | 3 | 4 | 5
Initial ROP Implementation | ○ | ○ | ○ | ○ | ○
Current ROP | ○ | ○ | ○ | ○ | ○

Comments:

(15) Has the public been afforded adequate opportunity to participate in the ROP and to provide inputs and comments?

| 1 | 2 | 3 | 4 | 5
Initial ROP Implementation | ○ | ○ | ○ | ○ | ○
Current ROP | ○ | ○ | ○ | ○ | ○

Comments:

(16) Has the NRC been responsive to public inputs and comments on the ROP?

| 1 | 2 | 3 | 4 | 5
Initial ROP Implementation | ○ | ○ | ○ | ○ | ○
Current ROP | ○ | ○ | ○ | ○ | ○

Comments:

(17) Has the NRC implemented the ROP as defined by program documents?

| 1 | 2 | 3 | 4 | 5
Initial ROP Implementation | ○ | ○ | ○ | ○ | ○
Current ROP | ○ | ○ | ○ | ○ | ○

Comments:

(18) Does the ROP reduce unnecessary regulatory burden on licensees?

| 1 | 2 | 3 | 4 | 5
Initial ROP Implementation | ○ | ○ | ○ | ○ | ○
Current ROP | ○ | ○ | ○ | ○ | ○

Comments:

(19) Does the ROP minimize unintended consequences?

| 1 | 2 | 3 | 4 | 5
Initial ROP Implementation | ○ | ○ | ○ | ○ | ○
Current ROP | ○ | ○ | ○ | ○ | ○

Comments:

(20) Please provide any additional information or comments related to the Reactor Oversight Process.

Dated at Rockville, Maryland, this 25th day of October 2004.
For the U.S. Nuclear Regulatory Commission .
Stuart A. Richards,
Office of Nuclear Reactor Regulation, Division of Inspection Program Management, Inspection Program Branch.

[FR Doc. 04-24304 Filed 10-29-04; 8:45 am]

BILLING CODE 7590-01-P